DEPARTMENT OF JUSTICE

[OMB 1140-0006]

Agency Information Collection Activities; Proposed eCollection eComments Requested; Application and Permit To Import Firearms, Ammunition, and Defense Articles (ATF Form 5330.3B (“Form 6, Part II”))

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: Comments are encouraged and will be accepted for 30 days until December 17, 2025.

FOR FURTHER INFORMATION CONTACT: If you have comments, especially on the estimated public burden or associated response time, suggestions, or need a copy of the proposed information collection instrument with instructions or additional information, please contact: Austin Funk, Firearms and Explosives Import Branch, either by mail at Bureau of Alcohol, Tobacco, Firearms and Explosives; 244 Needy Road, Martinsburg, WV 25405, by email at Austin.Funk@atf.gov, or by telephone at 304-616-4654.

SUPPLEMENTARY INFORMATION: The proposed information collection was previously published in the Federal Register, volume 90, page 37568, on Tuesday, August 5, 2025, allowing a 60-day comment period. We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0006. This information collection request may be viewed at www.reginfo.gov. Follow the instructions to view Department of Justice information collections currently under review by OMB.

DOJ seeks PRA authorization for this information collection for three years. OMB authorization for an ICR cannot be for more than three years without renewal. DOJ notes that information collection requirements submitted to OMB for existing ICRs receive a month-to-month extension while they undergo review.

Overview of This Information Collection

1. Type of information collection: revision of a previously approved collection.

2. Title of the form/collection: Application and Permit to Import Firearms, Ammunition, and Defense Articles.

3. Agency form number, if any, and the applicable component of the Department of Justice sponsoring the collection: ATF Form 5330.3B (“Form 6, part II”).

Component: Bureau of Alcohol, Tobacco, Firearms, and Explosives; U.S. Department of Justice.

4. Affected public who will be asked or required to respond, as well as a brief abstract:

Affected public: private sector-for or not for profit institutions.

Abstract: military members use ATF Form 5330.3B (“Form 6, part II”) to request approval to import articles described on the application back to the U.S. ATF uses the information on Form 6, part II to determine if the article(s) described on the application qualifies to be imported by the person requesting approval and the form then serves as the authorization for them to import the items.

ATF is modifying information collection (IC) OMB 1140-0006 to revise the title of the form for improved readability. ATF is also revising the form to add attachment sheets, at the request of users, to make the form more aligned with ATF Form 5330.3A (“Form 6, part I”), as well as make it easier for applicants with large numbers of item types to include in their applications. The attachment sheets include ones for defense articles and ammuition. The form instructions are also being updated to include current statute and regulation citations, some terminology changes (such as changing `articles' to `firearm(s), ammunition, and defense article(s)'), and contact information updates to provide the most efficient methods of contacting the office. The instructions have also been condensed and reworded for clarity. This revision also includes terminology and grammar updates.

This information collection is also being revised to reflect a decrease in the number of respondents since the last renewal, from 400 down to 312 per year, a decrease of 88. This has also resulted in a decrease in the total hourly burden from 200 to 156 total annual hours.

5. Obligation to respond: the obligation to respond is voluntary.

6. Total estimated number of respondents: 312 respondents.

7. Estimated time per respondent: 30 minutes.

8. Frequency: once annually.

9. Total estimated annual time burden: 156 total hours.

10. Total estimated annual other costs burden: $0.

If you need additional information, contact: Darwin Arceo, Department Clearance Officer, Policy and Planning Staff, Justice Management Division; United States Department of Justice; Two Constitution Square, 145 N Street NE, 4W-218 Washington, DC 20530.

Dated: November 13, 2025.
Darwin Arceo,
Department Clearance Officer for PRA, U.S. Department of Justice.

[FR Doc. 2025-19985 Filed 11-14-25; 8:45 am]

BILLING CODE 4410-FY-P